DEPARTMENT OF COMMERCE

International Trade Administration

[A-570-932]

Certain Steel Threaded Rod From the People's Republic of China; Final Results of Third Antidumping Duty Administrative Review; 2011-2012

AGENCY: Enforcement and Compliance, formerly Import Administration, International Trade Administration, Department of Commerce.

SUMMARY: The Department of Commerce (“the Department”) published its Preliminary Results of the third administrative review of the antidumping duty order on certain steel threaded rod from the People's Republic of China (“PRC”) on April 9, 2013.¹ The period of review (“POR”) is April 1, 2011, through March 31, 2012. We gave interested parties an opportunity to comment on the Preliminary Results. Based upon our analysis of the comments received, we made changes to the margin calculations for these final results. The final dumping margins are listed below in the “Final Results of the Review” section of this notice.

¹ See Certain Steel Threaded Rod from the People's Republic of China: Preliminary Results of the Antidumping Duty Administrative Review; 2011-2012, 78 FR 21101 (April 9, 2013) (“Preliminary Results”).

DATES: Effective Date: November 5, 2013.

FOR FURTHER INFORMATION CONTACT: Julia Hancock or Jerry Huang, AD/CVD Operations, Office V, Enforcement and Compliance, International Trade Administration, U.S. Department of Commerce, 14th Street and Constitution Avenue NW., Washington, DC 20230; telephone: (202) 482-1394 or (202) 482-4047, respectively.

SUPPLEMENTARY INFORMATION:

Background

On April 9, 2013, the Department published the Preliminary Results of this administrative review.² The Department conducted a verification of RMB Fasteners and IFI & Morgan Ltd. (collectively the “RMB/IFI Group”) between April 22 and April 26, 2013.³ The Department extended the deadline for submission of case briefs and rebuttal briefs based on requests from interested parties.⁴ On May 17, 2013, and May 28, 2013, interested parties submitted surrogate value (“SV”) comments and SV rebuttal comments.⁵ On May 21, 2013, May 28, 2013, and June 19, 2013, the Department issued letters regarding a claim by the RMB/IFI Group to withhold certain factual information from release under the administrative protective order (“APO”). Petitioner ⁶ submitted comments on that claim, and the RMB/IFI Group resubmitted that factual information for release under the APO.⁷ On June 24, 2013, and July 1, 2013, Petitioner and the RMB/IFI Group submitted case briefs and rebuttal briefs.⁸

² See id.

³ See Memorandum to the File, from Julia Hancock, International Trade Compliance Analyst, Office 9, and Jerry Huang, International Trade Compliance Analyst, Office 9, “Verification of the Sales and Factors of Production Responses of the RMB/IFI Group in the Third Administrative Review of Certain Steel Threaded Rod from the People's Republic of China,” (May 31, 2013).

⁴ See Memorandum for All Interested Parties, “Antidumping Administrative Review of Certain Steel Threaded Rod from the People's Republic of China: Revised Case and Rebuttal Briefs Schedule,” (May 20, 2013); Memorandum for All Interested Parties, “Antidumping Administrative Review of Certain Steel Threaded Rod from the People's Republic of China: Second Revised Case and Rebuttal Briefs Schedule,” (May 31, 2013); Memorandum for All Interested Parties, “Antidumping Administrative Review of Certain Steel Threaded Rod from the People's Republic of China: Third Revised Case and Rebuttal Briefs Schedule,” (June 10, 2013); and Memorandum for All Interested Parties, “Antidumping Administrative Review of Certain Steel Threaded Rod from the People's Republic of China: Fourth Revised Case and Rebuttal Briefs Schedule,” (June 17, 2013).

⁵ See “Jiaxing Brother Fastener Co., Ltd., RMB Fasteners Ltd., and IFI & Morgan Ltd. (“RMB/IFI Group”)'s Surrogate Values for the Final Results: Certain Steel Threaded Rod from the People's Republic of China,” (May 17, 2013); “Vulcan Threaded Products Inc. (“Petitioner”)'s Surrogate Value Comments: Third Administrative Review of Certain Steel Threaded Rod from the People's Republic of China,” (May 17, 2013); and “Petitioner's Submission of Rebuttal Surrogate Value Information: Third Administrative Review of Certain Steel Threaded Rod from the People's Republic of China,” (May 28, 2013).

⁶ Vulcan Threaded Products Inc. (“Petitioner”).

⁷ See Letter to RMB/IFI Group from Scot T. Fullerton, Program Manager, Office 9, “Steel Threaded Rod from the People's Republic of China: Clear and Compelling Need to Withhold Business Proprietary Information,” (May 21, 2013); Petitioner's Comments Concerning Respondents' Inappropriate Use of Double Bracketing: Third Administrative Review of Certain Steel Threaded Rod from the People's Republic of China, (May 28, 2013); Memorandum to James Doyle, Director, Office 9, from Evangeline Keenan, Director, APO/Dockets Unit, “Third Administrative Review of Certain Steel Threaded Rod from the People's Republic of China: Claim for Clear and Compelling Need to Withhold Information From Release Under Administrative Protective Order,” (June 19, 2013); and RMB/IFI Group's Resubmit Confirmation of Public Availability of Financial Statements: Certain Steel Threaded Rod from the People's Republic of China, (June 19, 2013).

⁸ See Petitioner's Case Brief (June 24, 2013); RMB/IFI Group's Case Brief (June 24, 2013); Petitioner's Rebuttal Brief (July 1, 2013); and RMB/IFI Group's Rebuttal Brief, (July 1, 2013).

On July 9, 2013, the Department extended the deadline in this proceeding by 40 days.⁹ On September 3, 2013, the Department extended the deadline in this proceeding by 20 days.¹⁰ As explained in the memorandum from the Assistant Secretary for Enforcement and Compliance, the Department has exercised its discretion to toll deadlines for the duration of the closure of the Federal Government from October 1, through October 16, 2013.¹¹ Therefore, all deadlines in this segment of the proceeding have been extended by 16 days. If the new deadline falls on a non-business day, in accordance with the Department's practice, the deadline will become the next business day. The revised deadline for the preliminary results of this review is now October 23, 2013.

⁹ See Memorandum to Christian Marsh, “Certain Steel Threaded Rod from the People's Republic of China: Extension of Deadline for Final Results of Antidumping Duty Administrative Review,” (July 9, 2013).

¹⁰ See Memorandum to Gary Taverman, “Certain Steel Threaded Rod from the People's Republic of China: Extension of Deadline for Final Results of Antidumping Duty Administrative Review,” (September 3, 2013).

¹¹ See Memorandum for the Record from Paul Piquado, Assistant Secretary for the Enforcement and Compliance, “Deadlines Affected by the Shutdown of the Federal Government” (October 18, 2013).

Scope of the Order

The merchandise covered by the order includes steel threaded rod. The subject merchandise is currently classifiable under subheading 7318.15.5051, 7318.15.5056,¹² 7318.15.5090, and 7318.15.2095 of the United States Harmonized Tariff Schedule (“HTSUS”). Although the HTSUS subheading is provided for convenience and customs purposes, the written description of the merchandise is dispositive.¹³

¹² HTSUS 7318.15.5056 was not listed in the scope for the Preliminary Results but should have been included in the scope. See Certain Steel Threaded Rod from the People's Republic of China: Amended Final Results of Antidumping Duty Administrative Review; 2010-2011, 78 FR 4389 (January 22, 2013).

¹³ See Certain Steel Threaded Rod from the People's Republic of China: Notice of Antidumping Duty Order, 74 FR 17154 (April 14, 2009) (“Order”). For a full description of the scope of the Order, see Memorandum to Paul Piquado, Assistant Secretary for Import Administration, from Christian Marsh, Deputy Assistant Secretary for Antidumping and Countervailing Duty Operations, Subject: Certain Steel Threaded Rod from the People's Republic of China: Issues and Decision Memorandum for the Final Results of the Third Antidumping Duty Administrative Review (October 7, 2013) (“Issues and Decision Memorandum”).

Analysis of Comments Received

All issues raised in the case and rebuttal briefs by parties are addressed in the Issues and Decision Memorandum, which is hereby adopted by this Notice. A list of the issues which parties raised is attached to this notice as Appendix I. The Issues and Decision Memorandum is a public document and is on file in the Central Records Unit (“CRU”), Room 7046 of the main Department of Commerce building, as well as electronically via Enforcement and Compliance's Antidumping and Countervailing Duty Centralized Electronic Service System (“IA ACCESS”). IA ACCESS is available to registered users at http://iaaccess.trade.gov and in the CRU. In addition, a complete version of the Issues and Decision Memorandum can be accessed directly on the internet at http://www.trade.gov/ia/. The signed Issues and Decision Memorandum and the electronic versions of the Issues and Decision Memorandum are identical in content.

Determination of No Reviewable Transactions

In the Preliminary Results, the Department determined that two companies had no shipments.¹⁴ These companies either reported that they had no shipments of subject merchandise to the United States or the record evidence showed that they had no shipments during the POR. As we stated in the Preliminary Results, our examination of shipment data from U.S. Customs and Border Protection (“CBP”) confirmed that there were no reviewable transactions made by these companies during the POR.¹⁵ Subsequent to the Preliminary Results, the Department did not receive any comments or information which indicated that these two companies made sales of subject merchandise to the United States during the POR. Therefore, consistent with the Department's refinement to its assessment practice in nonmarket economy (“NME”) cases, the Department finds that it is appropriate not to rescind the review in these circumstances, but, rather, to complete the review with respect to those two companies and issue appropriate instructions to CBP based on the final results of the review.¹⁶

¹⁴ These companies are: 1) Certified Products International, Inc. (“CPI”), and 2) Jiangxi Xinyue Standard Part Co., Ltd. (“Jiaxing Xinyue”), collectively “No Shipment Respondents.”

¹⁵ See Preliminary Results, 78 FR at 21102.

¹⁶ See Non-Market Economy Antidumping Proceedings: Assessment of Antidumping Duties, 76 FR 65694 (October 24, 2011) (“NME Antidumping Proceedings”).

Determination Not To Revoke Order in Part

We continue to find that the RMB/IFI Group has not satisfied the requirements of 19 CFR 351.222(b).¹⁷ Thus, under section 751 of the Act, we determine not to revoke in part the order with respect to the RMB/IFI Group.

¹⁷ See Issues and Decision Memorandum at Comment 8. The Department recently published a final rule amending this section of its regulations concerning the revocation of antidumping and countervailing duty orders in whole or in part, but that final rule does not apply to this administrative review. See Modification to Regulation Concerning the Revocation of Antidumping and Countervailing Duty Order, 77 FR 29875 (May 21, 2012). Reference to 19 CFR 351.222(b) thus refers to the Department's regulations in effect prior to June 20, 2012.

Changes Since the Preliminary Results

Based on a review of the record and comments received from interested parties regarding our Preliminary Results, we have made certain revisions to the margin calculations for the RMB/IFI Group.¹⁸

¹⁸ See Issues and Decision Memorandum and the company-specific analysis memoranda. See Memorandum to the File, “Analysis for the Final Results of the Third Administrative Review of Certain Steel Threaded Rod from the People's Republic of China: RMB/IFI Group,” (October 7, 2013).

Separate Rates

In our Preliminary Results, we determined that the RMB/IFI Group and Zhejiang New Oriental Fastener Co., Ltd. (“Zhejiang New Oriental”) met the criteria for separate rate status.¹⁹ We have not received any information since the issuance of the Preliminary Results that provides a basis for reconsideration of this determination. Therefore, the Department continues to find that these companies meet the criteria for separate rate status.

¹⁹ See Preliminary Results, 78 FR at 21101 and accompanying Decision Memorandum at 4-6.

Rate for Non-Selected Companies

Zhejiang New Oriental was not selected for individual review but, as explained above, meets the criteria for separate rate status. As in the Preliminary Results, we have assigned Zhejiang New Oriental the rate calculated for the mandatory respondent (i.e., the RMB/IFI Group). The RMB IFI Group's rate is not zero, de minimis, or based entirely on facts available.²⁰ For the final results, we continue to find this approach to be consistent with section 735(c)(5) of the Act and the Department's practice.²¹

²⁰ See Preliminary Results, and accompanying Decision Memorandum at 7. See also Fourth Administrative Review of Certain Frozen Warmwater Shrimp From the People's Republic of China: Preliminary Results, Preliminary Partial Rescission of Antidumping Duty Administrative Review and Intent Not To Revoke, In Part, 75 FR 11855, 11859 (March 12, 2010).

²¹ See Preliminary Results, 78 FR at 21101.

PRC-Wide Rate and PRC-Wide Entity

For the PRC-Wide Entity, the Department in the Preliminary Results assigned the rate of 206 percent, the only rate ever determined for the PRC-wide entity in this proceeding.²² Because this rate is the same as the PRC-Wide rate from previous segments in this proceeding and nothing on the record of the instant review calls into question the reliability of the PRC-Wide rate, we find it appropriate to continue to apply the PRC-Wide rate of 206 percent.²³

²² See Preliminary Results, 78 FR at 21103, and accompanying Decision Memorandum at 7-8.

²³ See STR Final Determination, 74 FR at 8910.

In the Preliminary Results, the Department determined that those companies which did not demonstrate eligibility for a separate rate are properly considered part of the PRC-Wide Entity.²⁴ Since the Preliminary Results, none of these companies submitted comments regarding these findings. Therefore, we continue to treat these companies as part of the PRC- Wide Entity.²⁵

²⁴ See Preliminary Results, 78 FR at 21102, and accompanying Decision Memorandum at 7-8.

²⁵ See Appendix II.

Additionally, in the Preliminary Results, for five companies,²⁶ the Department found that, while the request for review had been withdrawn, none of these five companies had a separate rate. Accordingly, these five companies remained part of the PRC-wide entity, which remained under review for the Preliminary Results.²⁷ Thus, the Department did not rescind the review for each of these five companies for the Preliminary Results. Since the Preliminary Results, no party has presented any information to the contrary and thus, these five companies remain part of the PRC-wide entity, which remains under review for the final results.

²⁶ On July 26, 2012, Vulcan Threaded Products Inc. (“Petitioner”) timely withdrew its request for review for five companies: (1) Autocraft Industry Ltd.; (2) Autocraft Industry (Shanghai) Ltd.; (3) Fuda Xiongzhen Machinery Co., Ltd.; (4) Shanghai Furen International Trading; and (5) Shanghai Printing and Packaging Machinery Corp. No other party requested a review on these five companies.

²⁷ See Preliminary Results, 78 FR at 21101.

Final Results of the Review

The dumping margins for the POR are as follows:

Exporter | Weighted-average margin (percent)
(1) Jiaxing Brother Standard Part Co., Ltd., IFI & Morgan Ltd. and RMB Fasteners Ltd. (collectively “RMB/IFI Group”) | 19.54
(2) Zhejiang New Oriental Fastener Co., Ltd | *19.54

Assessment Rates

The Department will determine, and CBP shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer-specific assessment rates on the basis of the ratio of the total amount of dumping calculated for the importer's examined sales and the total entered value of sales.²⁸ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

²⁸ See Antidumping Proceedings: Calculation of the Weighted-Average Dumping Margin and Assessment Rate in Certain Antidumping Proceedings: Final Modification, 77 FR 8101 (February 14, 2012).

For Zhejiang New Oriental Fastener Co., Ltd., the company receiving a separate rate that was not selected for individual review, we will assign an assessment rate based on the rate we calculated for the mandatory respondent whose rate was not de minimis, as discussed above. We intend to instruct CBP to liquidate entries containing subject merchandise exported by the PRC-wide entity at the PRC-wide rate.

The Department recently announced a refinement to its assessment practice in NME cases. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see NME Antidumping Proceedings.

Cash Deposit Requirements

The following cash deposit requirements will be effective upon publication of the final results of this administrative review for shipments of the subject merchandise from the PRC entered, or withdrawn from warehouse, for consumption on or after the publication date, as provided by section 751(a)(2)(C) of the Act: (1) For the RMB/IFI Group and Zhejiang New Oriental Fastener Co., Ltd., the cash deposit rate will be that established in the final results of this review; (2) for previously investigated or reviewed PRC and non-PRC exporters that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Disclosure

We will disclose the calculations performed within five days of the date of publication of this notice to parties in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: October 23, 2013.
Paul Piquado,
Assistant Secretary for Enforcement and Compliance.

Appendix I—Issues and Decision Memorandum

General Issues

COMMENT 1: SELECTION OF SURROGATE COUNTRY

A. Comparable Level of Economic Development

B. Significant Producer of Comparable Merchandise

C. Data Considerations

COMMENT 2: ADJUSTMENTS TO FINANCIAL RATIOS

COMMENT 3: CORRECTIONS TO MARGIN CALCULATION

COMMENT 4: REJECTED STEEL THREADED ROD

COMMENT 5: ASSESSMENT RATES

COMMENT 6: SURROGATE VALUE FOR INLAND FREIGHT

COMMENT 7: SURROGATE VALUE FOR BROKERAGE AND HANDLING (“B&H”)

COMMENT 8: REVOCATION FOR THE RMB/IFI GROUP

Appendix II—Companies Part of the PRC-Wide Entity

Autocraft Industry Ltd

Autocraft Industry (Shanghai) Ltd

Billion Land Ltd

China Brother Holding Group Co. Ltd

China Jiangsu International Economic Technical Cooperation Corporation

Dongxiang Accuracy Hardware Co., Ltd

EC International (Nantong) Co. Ltd

Fastwell Industry Co. Ltd

Fuda Xiongzhen Machinery Co., Ltd

Fuller Shanghai Co. Ltd

Gem-Year Industrial Co. Ltd

Haiyan Dayu Fasteners Co., Ltd

Haiyan Hurras Import & Export Co. Ltd

Haiyan Hurras Import Export Co. Ltd

Haiyan Jianhe Hardware Co. Ltd

Haiyan Julong Standard Part Co. Ltd

Hangzhou Grand Imp. & Exp. Co., Ltd

Jiangsu Dainan Zhenya Import & Export Co. Ltd

Jiangsu Zhenya Special Screw Co., Ltd

Jiashan Zhongsheng Metal Products Co., Ltd

Jiaxing China Industrial Imp & Exp Co.

a/k/a Jiaxing Cnindustrial Imp. & Exp. Co., Ltd.

Jiaxing SINI Fastener Co., Ltd

Jiaxing Wonper Imp. & Exp. Co. Ltd

Nanjing Prosper Import & Export Corporation Ltd

Ningbiao Bolts & Nuts Manufacturing Co.

Ningbo Baoli Machinery Manufacture Co., Ltd

Ningbo Beilun Milfast Metalworks Co. Ltd

Ningbo Dexin Fastener Co. Ltd

Ningbo Dongxin High-Strength Nut Co., Ltd

Ningbo Fastener Factory

Ningbo Grand Asia Import & Export Co., Ltd

Ningbo Healthy East Import & Export

Ningbo Jinding Fastening Piece Co., Ltd

Ningbo Pal International Trading Co.

Ningbo Qunli Fastener Manufacture Co., Ltd

Ningbo Shuanglin Auto Parts Co., Ltd

Ningbo Shuanglin Industry Manufacturing Ltd

Ningbo Xiangxiang Large Fasteners

Ningbo XinXing Fasteners Manufacture Co., Ltd

Ningbo Yinzhou Foreign Trade Co., Ltd

Ningbo Yinzhou JH Machinery Co.

Ningbo Zhenghai Youngding Fastener Co., Ltd

Ningbo Zhongjiang Petroleum Pipes & Machinery Co., Ltd

Panther T&H Industry Co. Ltd

PSGT Trading Jingjiang Ltd

Qingdao Free Trade Zone Health Intl.

Shanghai East Best Foreign Trade Co.

Shanghai East Best International Business Development Co., Ltd

Shanghai Fortune International Co. Ltd

Shanghai Furen International Trading

Shanghai Nanshi Foreign Economic Co.

Shanghai Overseas International Trading Co. Ltd

Shanghai P&J International Trading Co., Ltd

Shanghai Prime Machinery Co. Ltd

Shanghai Printing & Dyeing and Knitting Mill

Shanghai Printing & Packaging Machinery Corp.

Shanghai Recky International Trading Co., Ltd

Suntec Industries Co., Ltd

T and C Fastener Co. Ltd

Tandem Industrial Co., Ltd

Tong Ming Enterprise

Wisechain Trading Ltd

Xingtai City Xinxing Fasteners Co.

Zhejiang Artex Arts and Crafts

Zhejiang Guangtai Industry and Trade

Zhejiang Heiter Industries Co., Ltd

Zhejiang Heiter MFG & Trade Co. Ltd

Zhejiang Morgan Brother Technology Co. Ltd

[FR Doc. 2013-26509 Filed 11-4-13; 8:45 am]

BILLING CODE 3510-DS-P